DEPARTMENT OF THE TREASURY

Payments to Persons Who Hold Certain Categories of Judgments Against Cuba or Iran

AGENCY: Department of the Treasury; Departmental Offices.

ACTION: Notice.

SUMMARY: The Department of the Treasury is announcing that it will shortly prescribe procedures for making payments to persons who hold certain categories of judgments against Cuba or Iran.

FOR FURTHER INFORMATION CONTACT: Alexandra Edsall, Senior Advisor to the General Counsel, Department of the Treasury, 1500 Pennsylvania Avenue, NW., Room 3018, Washington, DC 20220, telephone (202) 622-2744 (not a toll-free call).

SUPPLEMENTARY INFORMATION: Section 2002 of the Victims of Trafficking and Violence Protection Act of 2000 directs the Secretary of the Treasury to make payments to persons who hold certain categories of judgments against Cuba or Iran in suits brought under 28 U.S.C. 1605(a)(7). Promptly after enactment, the Department of the Treasury will publish a notice in the Federal Register advising claimants what information must be provided in order to qualify for a payment under section 2002.

Dated: October 27, 2000.
Richard S. Carro,
Associate General Counsel.

[FR Doc. 00-28083 Filed 10-30-00; 10:58 am]

BILLING CODE 4810-25-M